DEPARTMENT OF ENERGY

Federal Energy Regulatory Commission

[Project No. 2146-111; Project No. 82-000; Project No. 618-000]

Alabama Power Company; Notice of Intent To Prepare Environmental Impact Statement and Soliciting Scoping Comments

On July 28, 2005, Alabama Power Company (Alabama Power) filed, pursuant to sections 4(e) and 15 of the Federal Power Act,¹ an application for a single new license to continue operation and maintenance of three previously separately licensed projects that include seven developments: (1) The Coosa Hydroelectric Project No. 2146, which comprises the Weiss, H. Neely Henry, Logan Martin, Lay, and Bouldin developments; (2) the Mitchell Dam Hydroelectric Project No. 82; and (3) the Jordan Dam Hydroelectric Project No. 618. The single new operating license would combine all of these projects as one project, the Coosa River Hydroelectric Project (Coosa River Project) No. 2146, with a combined 960.9 megawatts of hydroelectric generating capacity. The projects are located on the Coosa River, in the states of Alabama and Georgia, and occupy about 280 acres of federal land administered by the U.S. Bureau of Land Management.

¹ 16 U.S.C. 797(e) and 808 (2012).

On December 31, 2009, Commission staff issued a final Environmental Assessment (EA) for the Coosa River Project. On June 20, 2013 (June 20 Order), the Commission issued a single new 30-year license to Alabama Power for the continued operation and maintenance of the Coosa River Project.² On July 18, 2013, Alabama Rivers Alliance and American Rivers (jointly) filed a request for rehearing of the Commission's June 20 Order. On July 22, 2013, Alabama Power and Georgia Environmental Protection Division also filed separate requests for rehearing of the Commission's June 20 Order.³ On April 21, 2016 (April 21 Order), the Commission issued an order on rehearing and clarification regarding the new license for the project.⁴ On May 17, 2016, Alabama Rivers Alliance and American Rivers (jointly) filed a request for rehearing of the April 21 Order. On September 12, 2016, the Commission issued an order denying rehearing of the April 21 Order. Subsequently, Alabama Rivers Alliance and American Rivers (jointly) filed a petition in the U.S. Court of Appeals for the District of Columbia Circuit (court), and on July 6, 2018, the court issued an opinion vacating and remanding the new license to the Commission for further proceedings consistent with the opinion.⁵

² Alabama Power Company, 143 FERC 61,249 (2013), order on reh'g and clarification, 155 FERC 61,080 (2016), order denying reh'g, 156 FERC 61,171 (2016).

³ The Atlanta Regional Commission adopted and incorporated by reference Georgia Environmental Protection Division's request for rehearing.

⁴ Alabama Power Company, 155 FERC 61,080 (2016).

⁵ American Rivers v. FERC, 895 F.3d 32 (D.C. Cir. 2018). By notice issued on September 10, 2018, the previous licenses for the Coosa River, Jordan, and Mitchell Hydroelectric Projects were reinstated; each project is currently operating under an annual license.

In order to address the issues identified by the court, Commission staff intend to prepare a draft and final environmental impact statement (EIS) in accordance with the National Environmental Policy Act. The EIS will describe and evaluate the probable effects of the proposed action and alternatives. The focus of the EIS will be the issues identified by the court as requiring further analyses (i.e., dissolved oxygen, fish entrainment and turbine mortality, federally listed threatened and endangered species, and cumulative effects). For the resource areas not the subject of the opinion, the EIS will either include or incorporate by reference the analysis in the Commission's final EA.

To support and assist this environmental review, we are conducting scoping on the issues to be addressed in the EIS and are issuing a scoping document for comment under separate cover. Individuals, organizations, and agencies with environmental expertise and concerns are encouraged to comment on the scoping document. At this time, we do not anticipate holding public or agency scoping meetings.

With this notice, we are initiating informal consultation with the U.S. Fish and Wildlife Service and NOAA Fisheries under section 7 of the Endangered Species Act and the joint agency regulations thereunder at 50 CFR part 402.

The deadline for filing scoping comments is 30 days from the issuance date of this notice.

The Commission strongly encourages electronic filing. Please file scoping comments using the Commission's eFiling system at https://www.ferc.gov/docs-filing/efiling.asp. Commenters can submit brief comments up to 6,000 characters, without prior registration, using the eComment system at https://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2146-111.

The Commission's Rules of Practice require all intervenors filing documents with the Commission to serve a copy of that document on each person on the official service list for the project. Further, if an intervenor files comments or documents with the Commission relating to the merits of an issue that may affect the responsibilities of a particular resource agency, they must also serve a copy of the document on that resource agency.

The record for this proceeding is available for review at the Commission in the Public Reference Room or may be viewed on the Commission's website at http://www.ferc.gov using the eLibrary link. Enter the docket number excluding the last three digits in the docket number field to access documents. For assistance, contact FERC Online Support.

You may also register online at http://www.ferc.gov/docs-filing/esubscription.asp to be notified via email of new filing and issuances related to this or other pending projects. For assistance, contact FERC Online Support.

Copies of the scoping document outlining the subject areas to be addressed in the EIS were distributed to the parties on the Commission's mailing list. Copies of the scoping document may be viewed on the web at http://www.ferc.gov using the eLibrary link. Enter the docket number excluding the last three digits in the docket number field to access the document. For assistance, please contact FERC Online Support.

The draft EIS will be sent to all persons and entities on the Commission's service and mailing lists for the Coosa River Project. The draft EIS will include our recommendations for operating procedures, and environmental protection and enhancement measures that should be part of any new license issued by the Commission. Recipients will then have 60 days to review the draft EIS and file written comments with the Commission. All comments filed with the Commission on the final EIS will be considered in the Order taking final action on the license application. The application will be processed according to the following Hydro Licensing Schedule. Revisions to the schedule may be made as appropriate.

Milestone | Target date
Issue Scoping Document | October 2018.
Comments Due on Scoping Document | November 2018.
Issue Revised Scoping Document (if necessary) | December 2018.
Issue Additional Information Request (if necessary) | December 2018.
Additional Information Response Due | March 2019.
Draft EIS Issued | August 2019.
Comments Due on Draft EIS | October 2019.
Final EIS Issued | December 2019.

This notice informs all interested individuals, organizations, and agencies with environmental expertise and concerns, that: (1) The Commission staff has decided to prepare an EIS addressing the issues raised by the court; and (2) the comments, recommendations, and terms and conditions already on file with the Commission on the application will be taken into account in the EIS.

Any questions regarding this notice may be directed to Aaron Liberty at (202) 502-6862, or by email at aaron.liberty@ferc.gov.

Dated: October 30, 2018.
Kimberly D. Bose,
Secretary.

[FR Doc. 2018-24107 Filed 11-2-18; 8:45 am]

BILLING CODE 6717-01-P